SMALL BUSINESS ADMINISTRATION

[Declaration of Disaster # 3566]

Commonwealth of Pennsylvania

Greene County and the contiguous counties of Fayette and Washington in the Commonwealth of Pennsylvania; and Marshall, Monongalia, and Wetzel Counties in the State of West Virginia constitute a disaster area as a result of severe storms and flooding that occurred on November 19 and 20, 2003. Applications for loans for physical damage as a result of the disaster may be filed until the close of business on April 26, 2004 and for economic injury until the close of business on November 24, 2004 at the address listed below or other locally announced locations: U.S. Small Business Administration, Disaster Area 1 Office, 360 Rainbow Blvd., South 3rd Floor, Niagara Falls, NY 14303.

The interest rates are:

| Percent
For Physical Damage:
Homeowners with credit available elsewhere | 6.250
Homeowners without credit available elsewhere | 3.125
Businesses with credit available elsewhere | 6.123
Businesses and non-profit organizations without credit available elsewhere | 3.061
Others (including non-profit organizations) with credit available elsewhere | 4.875
For Economic Injury:
Businesses and small agricultural cooperatives without credit available elsewhere | 3.061

The numbers assigned to this disaster for physical damage are 356611 for Pennsylvania and 356711 for West Virginia. For economic injury, the numbers are 9Z4600 for Pennsylvania and 9Z4700 for West Virginia.

(Catalog of Federal Domestic Assistance Program Nos. 59002 and 59008.)

Dated: February 24, 2004.
Hector V. Barreto,
Administrator.

[FR Doc. 04-4576 Filed 3-1-04; 8:45 am]

BILLING CODE 8025-01-P